DEPARTMENT OF COMMERCE

International Trade Administration

[A-588-838]

Clad Steel Plate From Japan: Rescission of Antidumping Duty Administrative Review

AGENCY: Import Administration, International Trade Administration, Department of Commerce.

ACTION: Notice of rescission of antidumping duty administrative review.

SUMMARY: In response to notification by Dana Glacier Daido America LLC that it is not an interested party in this proceeding, we are rescinding the 1999-2000 administrative review of clad steel plate from Japan.

EFFECTIVE DATE: October 12, 2000.

FOR FURTHER INFORMATION CONTACT: James Nunno or Christopher Priddy, AD/CVD Enforcement Group I, Import Administration, International Trade Administration, U.S. Department of Commerce, 14th Street and Constitution Avenue, NW, Washington, DC 20230; telephone (202) 482-0783 or (202) 482-1130, respectively.

Applicable Statute and Regulations

Unless otherwise indicated, all citations to the Act are references to the provisions effective January 1, 1995, the effective date of the amendments made to the Act by the Uruguay Round Agreements Act (URAA). In addition, unless otherwise indicated, all citations to the Department's regulations are to 19 CFR part 351 (1999).

Background

On July 31, 2000, Dana Glacier Daido America LLC (Dana), requested that the Department conduct an administrative review of the antidumping duty order on stainless steel sheet and strip in coils from Japan for subject merchandise produced and exported by Daido Metal Corp. (Daido) during the period January 4, 1999, through June 30, 2000. On August 3, 2000, and August 9, 2000, Dana revised this request to correct and clarify the case name and number for which it requested an administrative review (i.e., Dana intended to request a review of clad steel plate from Japan produced and/or exported by Daido to the United States). On August 31, 2000, Dana informed the Department that the merchandise that it imported is not subject to the antidumping duty order on clad steel plate from Japan, and withdrew its request for an administrative review. On September 6, 2000, the Department published in the Federal Register a notice of initiation of administrative review with respect to Daido. See Initiation of Antidumping and Countervailing Duty Administrative Reviews and Request for Revocation in Part; 65 FR 53980 (Sept. 6, 2000).

Rescission of Review

Pursuant to 19 CFR 351.213(b)(3), the Department will initiate an administrative review based on a request from an importer of the subject merchandise. Given that Dana withdrew its request for review, notified the Department that it was not an importer of the subject merchandise during the period of review, and that no other party requested a review of this order, we are rescinding this review.

This rescission of the administrative review and notice are in accordance with section 751 of the Act and 19 CFR 351.213(d).

Dated: October 2, 2000.
Richard W. Moreland,
Deputy Assistant Secretary for Import Administration.

[FR Doc. 00-26242 Filed 10-11-00; 8:45 am]

BILLING CODE 3510-DS-P